DEPARTMENT OF COMMERCE

International Trade Administration

[A-565-801]

Notice of Postponement of Final Determination of Sales at Less Than Fair Value: Stainless Steel Butt-Weld Pipe Fittings From the Philippines

AGENCY: Import Administration, International Trade Administration, Department of Commerce.

EFFECTIVE DATE: August 21, 2000.

FOR FURTHER INFORMATION CONTACT: Fred Baker or Robert James at (202) 482-2924 and (202) 482-0649, respectively, Import Administration, International Trade Administration, U.S. Department of Commerce, 14th Street and Constitution Avenue., NW., Washington, DC 20230.

Postponement of Final Determination

The Department of Commerce is postponing the final determination in the antidumping duty investigation of stainless steel butt-weld pipe fittings from the Philippines.

On August 2, 2000 the Department published its preliminary determination in this investigation. See Notice of Preliminary Determination of Sales at Less Than Fair Value: Stainless Steel Butt-Weld Pipe Fittings from the Philippines, 65 FR 47393 (August 2, 2000). The notice stated that the Department would issue its final determination no later than 75 days after the date of issuance of the notice.

Pursuant to section 735(a)(2)(A) of the Tariff Act of 1930, as amended, on July 31, 2000, Tung Fong Industrial Co., Ltd. (Tung Fong), a respondent in the investigation, requested that the Department postpone its final determination to the fullest extent permitted by the statute and the Department's regulations. In addition, it consented to an extension of the period for the imposition of provisional measures to the fullest extent permitted, or six months, whichever is later. In accordance with section 735(a)(2)(A) of the Act and 19 CFR 351.210(b), because (1) the preliminary determination was affirmative; (2) the requesting exporter accounts for a significant proportion of exports of the subject merchandise; and (3) no compelling reasons for denial exist, we are granting Tung Fong's request and are postponing the final determination until no later than 135 days after publication of the preliminary determination in the Federal Register (i.e., until no later than December 15, 2000). Suspension of liquidation will be extended accordingly.

This postponement is in accordance with section 735(a)(2)(A) of the Act, and 19 CFR 351.210(b)(2).

Dated: August 11, 2000.
Troy H. Cribb,
Acting Assistant Secretary for Import Administration.

[FR Doc. 00-21240 Filed 8-18-00; 8:45 am]

BILLING CODE 3510-DS-P